DEPARTMENT OF TRANSPORTATION

Federal Aviation Administration

14 CFR Part 73

[Airspace Docket No. 00-ACE-23]

RIN 2120-AA66

Amendment of Time of Use for Restricted Areas R-4501A, B, C, D, and E, Fort Leonard Wood; MO

AGENCY: Federal Aviation Administration (FAA), DOT.

ACTION: Final rule.

SUMMARY: This action amends the times of use for Restricted Areas R-4501A, B, C, D, and E, Fort Leonard Wood, MO. Specifically, this action reduces and/or increases the published times and/or days the restricted areas are in use. The FAA is taking this action in response to the United States Army's (USA) increased training requirements.

EFFECTIVE DATE: 0901 UTC, January 25, 2001.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On August 31, 2000, the FAA proposed to amend 14 CFR part 73 to amend the times of use for Restricted Areas R-4501A, B, C, D, and E, Fort Leonard Wood, MO (65 FR 52961). Interested parties were invited to participate in this rulemaking proceeding by submitting written comments on the proposal to the FAA. No comments were received. The Department of Defense in a continuing need to meet its added national defense responsibilities has increased its training requirements of the USA Reserve and National Guard resources in many areas of the United States. One of the locations where this training has been increased is at Fort Leonard Wood, MO. This increase in training requires modification of the times of use for R-4501 and its subdivisions. Therefore, the USA has requested that the FAA amend the times and days of use for R-4501A, B, C, D, and E. Except for editorial changes, this amendment is the same as that proposed in the notice. Section 73.45 of part 73 was republished in FAA Order 7400.8H dated September 1, 2000.

The Rule

This amendment to 14 CFR part 73 modifies the times of use of R-4501 and its subdivisions over Fort Leonard Wood, MO. Specifically, R-4501A is activated thirty minutes earlier and deactivated three hours later. Additionally, R-4501B is activated on the same schedule but deactivated four hours later. The day schedule (Monday-Saturday) remains unchanged.

Also, R-4501C and D are activated two hours later Monday-Friday and deactivated three hours later than the current designation on Monday and two hours earlier Tuesday-Friday. Saturday is no longer designated as an active day unless done so by NOTAM 24 hours in advance. In addition, R-4501E is activated on the same schedule as R-4501C and D. The FAA is taking this action at the request of the USA to meet the increasing training efforts of the USA at Fort Leonard Wood, MO, and to better depict more realistic operational times of use of the restricted areas. Section 73.45 of 14 CFR part 73 was republished in FAA Order 7400.8H, dated September 1, 2000.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

This action reduces and/or increases the published times and/or days the restricted areas are in use. Therefore, the FAA has determined that this action is not subject to environmental assessments and procedures in accordance with FAA Order 1050.1D, “Policies and Procedures for Considering Environmental Impacts,” and the National Environmental Policy Act.

List of Subjects on 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.45 [Amended]

2. Section 73.45 is amended as follows:

* * * * *

R-4501A Fort Leonard Wood West, MO [Amended]

By removing the words “Time of Designation. 0700-1800 Monday-Saturday; other times by NOTAM issued at least 24 hours in advance.” and inserting the words “Time of Designation. 0630-2100 Monday-Saturday; other times by NOTAM issued at least 24 hours in advance.”

R-4501B Fort Leonard Wood East, MO [Amended]

By removing the words “Time of Designation. 0700-1800 Monday-Saturday; other times by NOTAM issued at least 24 hours in advance.” and inserting the words “Time of Designation. 0630-2200 Monday-Saturday; other times by NOTAM issued at least 24 hours in advance.”

R-4501C Fort Leonard Wood, MO [Amended]

By removing the words “Time of Designation. 0700-1800 Monday-Saturday; other times by NOTAM issued at least 24 hours in advance.” and inserting the words “Time of Designation. 0900-2100 Monday; 0900-1600 Tuesday-Friday; other times by NOTAM issued at least 24 hours in advance.”

R-4501D Fort Leonard Wood, MO [Amended]

By removing the words “Time of Designation. 0700-1800 Monday-Saturday; other times by NOTAM issued at least 24 hours in advance.” and inserting the words “Time of Designation. 0900-2100 Monday; 0900-1600 Tuesday-Friday; other times by NOTAM issued at least 24 hours in advance.”

R-4501E Fort Leonard Wood, MO [Amended]

By removing the words “Time of Designation. As specified by NOTAM at least 24 hours in advance.” and inserting the words “Time of Designation. 0900-2100 Monday; 0900-1600 Tuesday-Friday; other times by NOTAM issued at least 24 hours in advance.”

* * * * *

Issued in Washington, DC, on November 30, 2000.
Reginald C. Matthews,
Manager Airspace and Rules Division.

[FR Doc. 00-31086 Filed 12-5-00; 8:45 am]

BILLING CODE 4910-13-U